DEPARTMENT OF LABOR

Office of the Secretary

Center for Faith-Based and Community Initiatives, Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Center for Faith-Based and Community Initiatives is soliciting comments concerning the proposed collection: Workforce Investment Board Survey. A copy of the proposed information collection request can be obtained by contacting the office listed below in the ADDRESSES section of this Notice.

DATES: Written comments must be submitted to the office listed in the addresses section below on or before October 24, 2006.

ADDRESSES: Center for Faith-Based and Community Initiatives, Office of the Secretary, U.S. Department of Labor, Room S-2235, 200 Constitution Avenue, NW., Washington, DC 20210. Phone (202) 693-6450 (this is not a toll-free number), fax (202) 693-6146, TTY/TDD (800) 877-8339, or E-mail contact-cfbci@dol.gov. Please reference OMB Control Number 1290-0004 in the E-mail subject line.

SUPPLEMENTARY INFORMATION:

I. Background

The White House Office of Faith-Based and Community Initiatives and OMB have requested that DOL conduct a survey of the Workforce Investment Boards (WIBs) to obtain information about WIB grants that utilize WIA Youth funds and that DOJ conduct a survey of the state administering agencies to obtain information about the Bureau of Justice Assistance's Residential Substance Abuse Treatment for State Prisoners program (RSAT). The survey is designed to fill critical gaps in information that will inform legislation, regulations, and technical assistance at DOL and DOJ. Results from both surveys will likely be compared to the survey results from other Federal Departments with Centers for Faith-Based and Community Initiatives.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

Type of Review: Reinstatement without change of a previously approved collection of information.

Agency: Center for Faith-Based and Community Initiatives.

Title: Workforce Investment Board Survey.

OMB Number: 1290-0004.

Affected Public: State, Tribal, or Local Government.

Total Respondents: DOL: 461; DOJ: 39.

Total Annual Responses: DOL: 461; DOJ: 39.

Estimated Total Burden Hours: DOL: 77 hours; DOJ: 78 hours.

Estimated Time per Response: DOL: 10 minutes; DOJ: 120 minutes.

Frequency: Annually.

Total Burden Cost (capital/startup): $0.

Total Burden Cost (operating/maintenance): $0.

Comments submitted in response to this notice will be summarized and/or included in the request for Office of Management and Budget approval of the information collection request; they will also become a matter of public record.

Dated: August 22, 2006.
Jedd Medefind,
Director, Center for Faith-Based and Community Initiatives.

[FR Doc. E6-14133 Filed 8-24-06; 8:45 am]

BILLING CODE 4510-23-P